DEPARTMENT OF ENERGY

Federal Energy Regulatory Commission

[Project No. 15397-000]

Central Hudson Gas & Electric Corporation; Notice of Preliminary Permit Application Accepted for Filing and Soliciting Comments, Motions To Intervene, and Competing Applications

On February 18, 2025, Central Hudson Gas & Electric Corporation filed an application for a preliminary permit, pursuant to section 4(f) of the Federal Power Act (FPA), proposing to study the existing Dashville Hydroelectric Project (Dashville Project) on the Wallkill River in Ulster County, New York. The sole purpose of a preliminary permit, if issued, is to grant the permit holder priority to file a license application during the permit term. A preliminary permit does not authorize the permit holder to perform any land-disturbing activities or otherwise enter upon lands or waters owned by others without the owners' express permission.

The Dashville Project is an existing operating project that currently is not licensed.¹ The project consists of the following facilities: (1) a 358-foot-long concrete gravity dam with a 330-foot-long spillway having a crest elevation of 169 feet mean sea level (msl); (2) a 3.5-foot-high rubber crest gate installed on top of the spillway; (3) an impoundment having a surface area of 300 acres and a storage capacity of 515 acre-feet at a water surface elevation of 172.5 feet msl; (4) a 60-foot-long and 80-foot-wide masonry and reinforced concrete powerhouse containing two turbine-generator units having a total capacity of 5,400 kilowatts; (5) a substation; and (6) appurtenant facilities. The proposed project would have an annual generation of 16,000 megawatt-hours.

¹ On February 6, 2025, the Commission determined that the project is jurisdictional and required to be licensed. 190 FERC ¶ 62,077 (2025).

Applicant Contact: Ryan Hawthorne, Central Hudson Gas & Electric Corporation, 284 South Avenue, Poughkeepsie, NY 12601; phone: (845) 486-5533.

FERC Contact: Monir Chowdhury; phone: (202) 502-6736.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

More information about this project, including a copy of the application, can be viewed or printed on the “eLibrary” link of the Commission's website at https://elibrary.ferc.gov/eLibrary/search. Enter the docket number (P-15397) in the docket number field to access the document. For assistance, contact FERC Online Support.

Dated: April 23, 2025.
Debbie-Anne A. Reese,
Secretary.

[FR Doc. 2025-07661 Filed 5-1-25; 8:45 am]

BILLING CODE 6717-01-P